DEPARTMENT OF THE INTERIOR

National Park Service

Notice of Intent to Repatriate Cultural Items: U.S. Department of the Interior, Bureau of Indian Affairs, Washington, DC, and Arizona State Museum, University of Arizona, Tucson, AZ

AGENCY: National Park Service, Interior.

ACTION: Notice.

Notice is here given in accordance with the Native American Graves Protection and Repatriation Act (NAGPRA), 25 U.S.C. 3005, of the intent to repatriate cultural items in the control of the U.S. Department of the Interior, Bureau of Indian Affairs, Washington, DC, and in the physical custody of the Arizona State Museum, University of Arizona, Tucson, AZ, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The 14 cultural items are 8 ceramic bowl fragments, 1 ceramic bowl, 2 ceramic jars, 2 projectile points, and 1 shell pendant.

A detailed assessment of the cultural items was made by Bureau of Indian Affairs professional staff and Arizona State Museum professional staff in consultation with representatives of the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico. The Zuni Tribe has withdrawn from this consultation. The Gila River Indian Community of the Gila River Indian Reservation, Arizona is acting on behalf of the Ak Chin Indian Community of the Maricopa (Ak Chin) Indian Reservation, Arizona; Salt River Pima-Maricopa Indian Community of the Salt River Reservation, Arizona; and Tohono O'odham Nation of Arizona; and themselves.

On unknown dates between 1931 and 1934, cultural items were removed from cremation features at an unknown site in the vicinity of Sacaton (AZ U:14:-- area), Gila River Indian Reservation, Pinal County, AZ, by Carl A. Moosberg. The four cultural items are a shell pendant, two projectile points, and a ceramic jar. In 1935, the four cultural items were donated to the Arizona State Museum by Mr. Moosberg.

In 1947, the two projectile points were loaned to the Maxwell Museum, University of New Mexico, Albuquerque, NM. In 2005, Maxwell Museum returned the two cultural items to the Arizona State Museum. In 1953, the ceramic jar and shell pendant were sent to the Denver Museum of Natural History (now the Denver Museum of Nature and Science), Denver, CO, as part of an exchange. In 2005, the Denver Museum of Nature and Science returned the two cultural items to the Arizona State Museum.

Based on characteristics of the mortuary pattern and the attributes of the ceramic style, the cultural items from AZ U:14:--area have been identified as being associated with the Hohokam archeological tradition, which spanned the years circa A.D. 500-1350/1400.

In 1963, cultural items were removed from cremation features during excavations at site AZ U:13:9 ASM, Gila River Indian Reservation, Pinal County, AZ, by Arizona State Museum staff member Alfred E. Johnson. The two cultural items are a ceramic jar and a ceramic bowl. In 1967, the two cultural items were loaned to the Milwaukee Public Museum, Milwaukee, WI. In 2005, the Milwaukee Public Museum returned the two cultural items to the Arizona State Museum.

Based upon architecture, portable material culture, and site organization, occupation at site AZ U:13:9 ASM has been dated to the Colonial through Classic Phases of the Hohokam archeological tradition, approximately A.D. 700-1350/1400.

In 1964-1965, cultural items were removed from cremation features at AZ U:13:24 ASM, Gila River Indian Reservation, Pinal County, AZ, during joint University of Arizona, Department of Anthropology and Arizona State Museum excavations. The eight cultural items are eight ceramic bowl fragments. In 2005, the ceramic bowl fragments were rediscovered during inventory of boxes from the office of a former professor. The human remains associated with the cultural items were reported in a Notice of Inventory Completion published in the Federal Register on December 29, 2000 (Volume 65, Number 251, page 83081) and repatriated in 2001.

The archeological evidence, including characteristics of portable material culture, attributes of ceramic styles, domestic and ritual architecture, site organization, and canal-based agriculture of the settlement, places AZ U:13:24 ASM within the archeologically-defined Hohokam tradition and within the Phoenix Basin local variant of that tradition. The occupation of AZ U:13:24 ASM spans the years circa A.D. 1150-1350/1400.

Continuities of mortuary practices, ethnographic materials, and technology indicate affiliation of Hohokam settlements with present-day O'odham (Piman), Pee Posh (Maricopa), and Puebloan cultures. Oral traditions documented for the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico support affiliation with Hohokam sites in central Arizona.

Officials of the Bureau of Indian Affairs and Arizona State Museum have determined that, pursuant to 25 U.S.C. 3001 (3)(B), the 14 cultural items are reasonably believed to have been placed with or near individual human remains at the time of death or later as part of the death rite or ceremony and are believed, by a preponderance of the evidence, to have been removed from a specific burial site of a Native American individual. Officials of the Bureau of Indian Affairs and Arizona State Museum also have determined that, pursuant to 25 U.S.C. 3001 (2), there is a relationship of shared group identity that can be reasonably traced between the unassociated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the cultural items should contact John Madsen, Repatriation Coordinator, Arizona State Museum, University of Arizona, Tucson, AZ 85721, telephone (520) 621- 4795, before September 2, 2005. Repatriation of the unassociated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

The Arizona State Museum is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: July 11, 2005
Sherry Hutt,
Manager, National NAGPRA Program.

[FR Doc. 05-15320 Filed 8-2-05; 8:45 am]

BILLING CODE 4312-50-S